NATIONAL SCIENCE FOUNDATION

Notice of Availability of Draft Environmental Assessment for the Very Energetic Radiation Imaging Telescope Array System (Veritas)

AGENCIES: National Science Foundation (Lead Agency) and the U.S. Department of Energy (Cooperating Agency With Jurisdiction).

ACTION: Notice of availability.

SUMMARY: This notice announces the availability, and opportunity for public review and comment, of the environmental assessment (EA) that supports the National Science Foundation (NSF) and U.S. Department of Energy (DOE) proposal to authorize the continued expenditure of grant funds totaling $12.3 million by the Smithsonian Institution to construct a four-telescope array near Tucson, Arizona. The draft EA is available at http://veritas.sao.arizona.edu/.

DATES: Comments should be received by the Agencies' third-party contractor, SWCA Environmental Consultants, no later than December 9, 2005.

ADDRESSES: Comments, or requests for copies of the draft EA, should be sent to: Tom Furgason, Project Manager, SWCA Environmental Consultants, 343 West Franklin Street, Tucson, AZ 85701.

Requests for copies of the draft EA may also be made by calling (520) 325-9194. Comments may be mailed to the address above or sent via facsimile at (520) 325-2003.

SUPPLEMENTARY INFORMATION: The NSF and DOE propose to authorize the continued expenditure of grant funds totaling $12.3 million by the Smithsonian Institution to construct a four-telescope array near Tucson, Arizona. The proposed telescopes and ancillary facilites are known as the Very Energetic Radiation Imaging Telescope Array System (VERITAS). The purpose of the proposed project would be to provide the ground-based capability to study extremely energetic gamma rays potentially produced from a variety of astrophysical sources. VERITAS would permit researchers to study the properties of the sources of these gamma rays.

VERITAS would consist of an array of four identical telescopes, and ancillary facilites such as control building, communications links, and an access road with underground utilities. The preferred alternative site for VERITAS is a 10-hectare (25-acre) parcel in an area located west of the top of Kitt Peak in Horsehose Canyon. The proposed project area is within the Kitt Peak National Observatory (KPNO) area leased by NSF from the Tohono O'odham Nation. A 4-hectare (10-acre) site known as Montosa Canyon, located in the Coronado National Forest in southern Arizona, is also evaluated as an alternative site. Under the no action alternative, NSF and DOE would make no further funds available for the construction of the VERITAS project.

Issued in Arlington, VA.
Lawrence Rudolph,
General Counsel, National Science Foundation.

[FR Doc. 05-22544 Filed 11-10-05; 8:45 am]

BILLING CODE 7555-01-M